ADVISORY COUNCIL ON HISTORIC PRESERVATION

Notice of ACHP Quarterly Business Meeting

AGENCY: Advisory Council on Historic Preservation.

ACTION: Notice.

SUMMARY: Notice is hereby given that the Advisory Council on Historic Preservation (ACHP) will meet Thursday, August 11, 2011. The meeting will be held in the Plymouth Room of the Mayflower Park Hotel, 405 Olive Way, Seattle, WA 98101.

The ACHP was established by the National Historic Preservation Act of 1966 (16 U.S.C. 470 et seq.) to advise the President and Congress on national historic preservation policy and to comment upon Federal, federally assisted, and federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-Federal members appointed by the President.

Call to Order—9 a.m.

I. Chairman's Welcome

II. Presentation of Chairman's Award

III. Chairman's Report

IV. ACHP Management Issues

A. Credentials Committee Report and Recommendations

B. Alumni Foundation

C. 2012 Meeting Dates

V. Historic Preservation Policy and Programs

A. Rightsizing Task Force

B. Economic Benefits Study—Next Steps

C. Historic Preservation in America's Great Outdoors

D. ACHP Legislative Agenda

E. Sustainability Task Force

F. Web Site Update and Social Media

G. Preservation Action Federal Preservation Task Force Report and Recommendations

VI. Section 106 Issues

A. Executive Order 13563 on Regulatory Revision and Section 106 Regulations

B. Traditional Cultural Landscapes Forum Follow Up

C. Western Renewable Energy and Historic Preservation Working Group

VII. New Business

VIII. Adjourn

Note: The meetings of the ACHP are open to the public.

If you need special accommodations due to a disability, please contact the Advisory Council on Historic Preservation, 1100 Pennsylvania Avenue, NW., Room 803, Washington, DC, 202-606-8503, at least seven (7) days prior to the meeting. For further information: Additional information concerning the meeting is available from the Executive Director, Advisory Council on Historic Preservation, 1100 Pennsylvania Avenue, NW., #803, Washington, DC 20004.

Dated: July 21, 2011.
John M. Fowler,
Executive Director.

[FR Doc. 2011-18895 Filed 7-27-11; 8:45 am]

BILLING CODE 4310-K6-M